DEPARTMENT OF TRANSPORTATION

Federal Railroad Administration

[Docket No. FRA-1999-6439, Notice No. 24]

Adjustment of Nationwide Significant Risk Threshold

AGENCY: Federal Railroad Administration (FRA), Department of Transportation (DOT).

ACTION: Notice of adjustment of Nationwide Significant Risk Threshold.

SUMMARY: In accordance with appendix D to title 49 Code of Federal Regulations (CFR) part 222, Use of Locomotive Horns at Public Highway-Rail Grade Crossings, FRA is updating the Nationwide Significant Risk Threshold (NSRT). This action is needed to ensure that the public has the proper threshold of permissible risk for calculating quiet zones established in relationship to the NSRT. This is the sixth update to the NSRT, which is increasing from 13,722 to 14,347.

DATES: The effective date of this notice is November 26, 2013.

FOR FURTHER INFORMATION CONTACT: Mr. Ronald Ries, Office of Railroad Safety, FRA, 1200 New Jersey Avenue SE., Washington, DC 20590, (202) 493-6299, Ronald.Ries@dot.gov; or Kathryn Shelton, Office of Chief Counsel, FRA, 1200 New Jersey Avenue SE., Washington, DC 20590, (202) 493-6038, Kathryn.Shelton@dot.gov.

SUPPLEMENTARY INFORMATION:

Background

The NSRT is an average of the risk indexes for gated public crossings nationwide where train horns are routinely sounded. FRA developed this risk index to serve as one threshold of permissible risk for quiet zones established across the nation under 49 CFR part 222, Use of Locomotive Horns at Public Highway-Rail Grade Crossings. Thus, a community that is trying to establish and/or maintain its quiet zone, pursuant to 49 CFR part 222, can compare the Quiet Zone Risk Index calculated for its specific crossing corridor to the NSRT to determine whether sufficient measures have been taken to compensate for the excess risk that results from prohibiting routine sounding of the locomotive horn. (In the alternative, a community can establish its quiet zone in comparison to the Risk Index With Horns, which is defined in 49 CFR 222.9 as a measure of risk to the motoring public when locomotive horns are routinely sounded at every public highway-rail grade crossing within a quiet zone.)

FRA has been updating the NSRT since 2006, when it was calculated to be 17,030 (71 FR 47614, August 17, 2006). In 2007, FRA recalculated the NSRT to be 19,047 (72 FR 14850, March 29, 2007). In 2008, FRA recalculated the NSRT to be 17,610 (73 FR 30661, May 28, 2008). In 2009, FRA recalculated the NSRT to be 18,775 (74 FR 45270, September 1, 2009). In 2010, FRA recalculated the NSRT to be 14,007 (75 FR 82136, December 29, 2010). FRA's last update to the NSRT was made in 2012, when it was calculated to be 13,722 (77 FR 546, January 5, 2012).

New NSRT

Using collision data over a five-year period from 2008 to 2012, FRA has recalculated the NSRT based on formulas identified in appendix D to 49 CFR part 222. In making this recalculation, FRA noted that the total number of gated crossings nationwide where train horns are routinely sounded was 42,544.

Applying the fatality rate and injury rate to the probable number of fatalities and casualties predicted to occur at each of the 42,544 identified crossings and the predicted cost of the associated injuries and fatalities, FRA calculates the NSRT to be 14,347. Accordingly, this updated NSRT value will serve as one threshold of permissible risk for quiet zones established across the nation pursuant to 49 CFR part 222.

Issued in Washington, DC on November 21, 2013.
Robert C. Lauby,
Associate Administrator for Railroad Safety, Chief Safety Officer.

[FR Doc. 2013-28298 Filed 11-25-13; 8:45 am]

BILLING CODE 4910-06-P